DEPARTMENT OF ENERGY

Federal Energy Regulatory Commission

[Docket No. ER06-919-000]

Southern Company Services, Inc.; Notice of Non-Decisional Status

January 10, 2007.

Take notice that, for purposes of the above-captioned docket (and all subdockets in those dockets), Scott P. Molony, Chief, Regulatory Accounting Branch, and Steven D. Hunt, Auditor, in the Division of Financial Regulation, Office of Enforcement are non-decisional authorities and non-decisional employees. Cf. 18 CFR 385.102(a) (2006) (definition of decisional authority); 18 CFR 385.2201(c)(3) (2006) (definition of decisional employee).

Magalie R. Salas,
Secretary.

[FR Doc. E7-563 Filed 1-17-07; 8:45 am]

BILLING CODE 6717-01-P